NUCLEAR REGULATORY COMMISSION

[Docket No. 70-7019; NRC-2021-0182]

Oregon State University

AGENCY: Nuclear Regulatory Commission.

ACTION: License renewal; issuance.

SUMMARY: The U.S. Nuclear Regulatory Commission (NRC) staff has issued a renewal to special nuclear materials (SNM) License No. SNM-2013 to Oregon State University (OSU) in Corvallis, Oregon. The renewed license will authorize the applicant to continue research on research and test reactor fuel rods that contain greater than critical mass amounts of SNM. The license renewal would allow OSU to continue licensed activities for 10 years beyond its current license.

DATES: Renewed License No. SNM-2013 was issued on September 30, 2022, and is effective as of the date of issuance.

ADDRESSES: Please refer to Docket ID NRC-2021-0182 when contacting the NRC about the availability of information regarding this action. You may obtain publicly available information related to this action using any of the following methods:

• Federal Rulemaking Website: Go to https://www.regulations.gov and search for Docket ID NRC-2021-0182. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Jenny Tobin, Office of Nuclear Material Safety and Safeguards, U.S. Nuclear Regulatory Commission, Washington, DC 20555-0001, telephone: 301-415-2328, email: Jennifer.Tobin@nrc.gov.

SUPPLEMENTARY INFORMATION:

I. Background

Oregon State University (OSU) is a public land-grant research university in Corvallis, Oregon. The OSU School of Engineering is under contract to the Department of Energy (DOE) to conduct non-destructive testing research on research reactor fuel from five different research reactors in the United States. The quantity of SNM involved in this project requires an NRC-issued SNM license pursuant to part 70 of title 10 of the Code of Federal Regulations (10 CFR), “Domestic licensing of special nuclear material.”

II. Discussion

Pursuant to 10 CFR 2.106, the NRC is providing notice of the renewal of License SNM-2013 to OSU, which authorizes OSU to complete research involving SNM for DOE at its location in Corvallis, Oregon. OSU submitted its renewal application on July 29, 2021, and submitted a correction on July 31, 2021. An NRC administrative completeness review, dated September 15, 2021, found the application acceptable for a technical review. After reviewing the OSU SNM renewal application, the NRC sent a request for additional information (RAI) dated October 29, 2021, to OSU regarding their renewal application. On January 5, 2022, OSU responded to the RAI. OSU subsequently supplemented its license renewal application by letter dated April 19, 2022, requesting an exemption from the criticality alarm requirement in 10 CFR 70.24.

Because the licensed material will be used for research and development purposes, renewal of License SNM-2013, is an action that is categorically excluded from the requirement to prepare an environmental assessment or environmental impact statement, pursuant to 10 CFR 51.22(c)(14)(v).

The NRC previously published a notice of OSU's request for a materials license renewal with a notice of opportunity to request a hearing in the Federal Register on October 1, 2021 (86 FR 54485). No requests for a hearing or petition for leave to intervene were received.

During the technical review, the NRC reviewed the application in areas that included, but were not limited to, radiation safety, chemical safety, fire safety, security, environmental protection, and material control/accountability. Prior to approving the request to renew License SNM-2013, NRC reviewed the application to determine whether it met the requirements of the Atomic Energy Act of 1954, as amended (the Act), and the NRC's regulations in 10 CFR part 70. The NRC's review and findings are documented in a safety evaluation report. In the report, the NRC concluded that the licensee can continue to operate the facility without endangering the health and safety of the public.

The NRC finds that the license complies with the standards and requirements of the Atomic Energy Act of 1954, as amended, and the NRC's rules and regulations as set forth in 10 CFR chapter 1. Accordingly, this license was issued on September 30, 2022, and was effective immediately.

III. Availability of Documents

In accordance with 10 CFR 2.390 of the NRC's “Rules of Practice,” the details with respect to this action, including the safety evaluation report and accompanying documentation and license, are available electronically in the NRC's Electronic Reading Room at https://www.nrc.gov/reading-rm/adams.html. From this site, you can access ADAMS, which provides text and image files of the NRC's public documents. For further details related to this action, visit https://www.regulations.gov under Docket ID NRC-2021-0182.

The documents identified in the following table are available to interested persons through ADAMS accession numbers as indicated.

Document description | ADAMS Accession No.
OSU's application for renewal of special nuclear materials license, dated July 29, 2021 | ML21211A614
OSU's corrected (public) application for renewal of special nuclear materials license, dated July 31, 2021 | ML21235A325
NRC Request for Additional Information dated October 29, 2021 | ML21300A112 (package).
OSU's response to request for additional information and revisions to application, dated January 5, 2022 | ML22006A036
OSU Supplemental Information regarding Request for Exemption from 10 CFR 70.24, “Criticality Accident Requirements,” dated April 19, 2022 | ML22122A105 (package).
Issuance of Renewed License SNM-2013, dated September 30, 2022 | ML22047A187
NRC Safety Evaluation Report, dated September 30, 2022 | ML22056A357

Dated: September 30, 2022.
For the Nuclear Regulatory Commission.
Carrie M. Safford,
Deputy Director, Division of Fuel Management, Office of Nuclear Material Safety and Safeguards.

[FR Doc. 2022-21623 Filed 10-4-22; 8:45 am]

BILLING CODE 7590-01-P